DEPARTMENT OF ENERGY

Federal Energy Regulatory Commission

Combined Notice Filings #1

Take notice that the Commission received the following electric corporate filings:

Docket Numbers: EC22-33-000.

Applicants: FirstEnergy Transmission, LLC.

Description: Informational Updated Report of FirstEnergy Transmission, LLC, et al.

Filed Date: 3/3/22.

Accession Number: 20220303-5259.

Comment Date: 5 p.m. ET 3/28/22.

Take notice that the Commission received the following exempt wholesale generator filings:

Docket Numbers: EG22-66-000.

Applicants: Sunlight Storage, LLC.

Description: Sunlight Storage, LLC submits Notice of Self-Certification of Exempt Wholesale Generation Status.

Filed Date: 3/17/22.

Accession Number: 20220317-5062.

Comment Date: 5 p.m. ET 4/7/22.

Take notice that the Commission received the following electric rate filings:

Docket Numbers: ER18-2511-001.

Applicants: NorthWestern Corporation.

Description: Supplement to Triennial Market Power Analysis for the SPP Region to be effective N/A.

Filed Date: 12/14/2021.

Accession Number: 20211214-5001.

Comment Date: 5 p.m. ET 4/7/22.

Docket Numbers: ER20-2541-001.

Applicants: Midcontinent Independent System Operator, Inc.

Description: Midcontinent Independent System Operator, Inc. submits tariff filing per 35.19a(b): Refund Report Entergy Louisiana, LLC II to be effective N/A.

Filed Date: 3/16/22.

Accession Number: 20220316-5189.

Comment Date: 5 p.m. ET 4/6/22.

Docket Numbers: ER21-666-001.

Applicants: Midcontinent Independent System Operator, Inc.

Description: Midcontinent Independent System Operator, Inc. submits tariff filing per 35.19a(b): Refund Report WPPI Energy to be effective N/A.

Filed Date: 3/16/22.

Accession Number: 20220316-5188.

Comment Date: 5 p.m. ET 4/6/22.

Docket Numbers: ER22-290-002.

Applicants: Oakland Power Company LLC.

Description: Compliance filing: Amendment to Notice of Implementation of Capital Items to be effective 1/1/2022.

Filed Date: 3/17/22.

Accession Number: 20220317-5125.

Comment Date: 5 p.m. ET 4/7/22.

Docket Numbers: ER22-1103-000.

Applicants: BRP Capital & Trade LLC.

Description: Supplement to February 23, 2022 BRP Capital & Trade LLC submits application for Market-Based Rate Authority.

Filed Date: 3/4/22.

Accession Number: 20220304-5298.

Comment Date: 5 p.m. ET 3/25/22.

Docket Numbers: ER22-1364-000.

Applicants: Idaho Power Company.

Description: § 205(d) Rate Filing: Revised Agreements re SA 324 and SA 342 to be effective 7/1/2022.

Filed Date: 3/17/22.

Accession Number: 20220317-5031.

Comment Date: 5 p.m. ET 4/7/22.

Docket Numbers: ER22-1365-000.

Applicants: MC Project Company LLC.

Description: § 205(d) Rate Filing: Proposed Revisions to Reactive Rate Schedule Request for Limited Tariff Waiver to be effective 6/1/2022.

Filed Date: 3/17/22.

Accession Number: 20220317-5044.

Comment Date: 5 p.m. ET 4/7/22.

Docket Numbers: ER22-1366-000.

Applicants: Martins Creek, LLC.

Description: Tariff Amendment: Notice of Cancellation of Reactive Rate Schedule Request for Limited Waiver to be effective 5/31/2022.

Filed Date: 3/17/22.

Accession Number: 20220317-5054.

Comment Date: 5 p.m. ET 4/7/22.

Docket Numbers: ER22-1367-000.

Applicants: Newark Bay Cogeneration Partnership, L.P.

Description: Tariff Amendment: Notice of Cancellation of Reactive Rate Schedule Request for Limited Waiver to be effective 5/31/2022.

Filed Date: 3/17/22.

Accession Number: 20220317-5057.

Comment Date: 5 p.m. ET 4/7/22.

Docket Numbers: ER22-1368-000.

Applicants: Pedricktown Cogeneration Company LP.

Description: Tariff Amendment: Notice of Cancellation of Reactive Rate Schedule Request for Limited Waiver to be effective 5/31/2022.

Filed Date: 3/17/22.

Accession Number: 20220317-5059.

Comment Date: 5 p.m. ET 4/7/22.

Docket Numbers: ER22-1369-000.

Applicants: Midcontinent Independent System Operator, Inc., American Transmission Company LLC.

Description: § 205(d) Rate Filing: Midcontinent Independent System Operator, Inc. submits tariff filing per 35.13(a)(2)(iii: 2022-03-17_SA 2777 ATC-Wisconsin Rapids 2nd Rev CFA to be effective 5/17/2022.

Filed Date: 3/17/22.

Accession Number: 20220317-5096.

Comment Date: 5 p.m. ET 4/7/22.

Docket Numbers: ER22-1370-000.

Applicants: Sunlight Storage, LLC.

Description: Baseline eTariff Filing: Sunlight Storage, LLC Application for Market-Based Rate Authorization to be effective 5/17/2022.

Filed Date: 3/17/22.

Accession Number: 20220317-5099.

Comment Date: 5 p.m. ET 4/7/22.

The filings are accessible in the Commission's eLibrary system (https://elibrary.ferc.gov/idmws/search/fercgensearch.asp) by querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: March 17, 2022.
Debbie-Anne A. Reese,
Deputy Secretary.

[FR Doc. 2022-06140 Filed 3-22-22; 8:45 am]

BILLING CODE 6717-01-P